DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Connecticut: Fairfield (FEMA Docket No.: B-2348). | Town of Greenwich (23-01-0011P). | Fred Camillo, First Selectman, Town of Greenwich Board of Selectmen, 101 Field Point Road, Greenwich, CT 06830. | Planning and Zoning Department, 101 Field Point Road, Greenwich, CT 06830. | Aug. 11, 2023 | 090008
Delaware: New Castle (FEMA Docket No.: B-2341). | Unincorporated areas of New Castle County (22-03-0971P). | The Honorable Matthew Meyer, New Castle County Executive, 87 Read's Way, New Castle, DE 19720. | New Castle County Government Center, 87 Read's Way, New Castle, DE 19720. | Aug. 10, 2023 | 105085
Florida:
Alachua (FEMA Docket No.: B-2348). | City of Gainesville (22-04-5738P). | The Honorable Harvey Ward, Mayor, City of Gainesville, 200 East University Avenue, Gainesville, FL 32601. | Public Works Department, 405 Northwest 39th Avenue, Gainesville, FL 32609. | Aug. 16, 2023 | 125107
Alachua (FEMA Docket No.: B-2348). | Unincorporated areas of Alachua County (22-04-5738P). | Michele L. Lieberman, Alachua County Manager, 12 Southeast 1st Street, Gainesville, FL 32601. | Alachua County Public Works Department, 5620 Northwest 120th Lane, Gainesville, FL 32653. | Aug. 16, 2023 | 120001
Bay (FEMA Docket No.: B-2348). | Unincorporated areas of Bay County (22-04-5121P). | The Honorable Tommy Hamm, Chair, Bay County Board of Commissioners, 840 West 11th Street, Panama City, FL 32401. | Bay County Planning and Zoning Division, 840 West 11th Street, Panama City, FL 32401. | Aug. 16, 2023 | 120004
Charlotte (FEMA Docket No.: B-2341). | City of Punta Gorda (22-04-4836P). | The Honorable Lynne Matthews, Mayor, City of Punta Gorda, 326 West Marion Avenue, Punta Gorda, FL 33950. | Building Department, 326 West Marion Avenue, Punta Gorda, FL 33950. | Jul. 11, 2023 | 120062
Charlotte (FEMA Docket No.: B-2341). | Unincorporated areas of Charlotte County (22-04-4836P). | Bill Truex, Chair, Charlotte County Board of Commissioners, 18500 Murdock Circle, Suite 536, Port Charlotte, FL 33948. | Charlotte County E.J. Carlson Community Development Building, 18400 Murdock Circle, Port Charlotte, FL 33948. | Jul. 11, 2023 | 120061
Orange (FEMA Docket No.: B-2348). | City of Orlando (22-04-5073P). | The Honorable Buddy Dyer, Mayor, City of Orlando, 400 South Orange Avenue, Orlando, FL 32801. | Public Works Department, Engineering Division, 400 South Orange Avenue, Orlando, FL 32801. | Aug. 18, 2023 | 120186
Orange (FEMA Docket No.: B-2348). | Unincorporated areas of Orange County (22-04-5073P). | The Honorable Jerry L. Demings Mayor, Orange County, 201 South Rosalind Avenue, 5th Floor, Orlando, FL 32801. | Orange County Public Works Department, Stormwater Management Division, 4200 South John Young Parkway, Orlando, FL 32839. | Aug. 18, 2023 | 120179
Sarasota FEMA Docket No.: B-2348). | City of Sarasota (22-04-4970P). | The Honorable Kyle Battie, Mayor, City of Sarasota, 1565 1st Street, Room 101, Sarasota, FL 34236. | Development Services Department, 1565 1st Street, Sarasota, FL 34236. | Aug. 16, 2023 | 125150
Kentucky: Jefferson (FEMA Docket No.: B-2341). | Metropolitan Government of Louisville and Jefferson County (23-04-2013P). | The Honorable Craig Greenberg, Mayor, Metropolitan Government of Louisville and Jefferson County, 527 West Jefferson Street, Louisville, KY 40202. | Louisville/Jefferson County Metropolitan Sewer District, 700 West Liberty Street, Louisville, KY 40203. | Aug. 10, 2023 | 210120
Massachusetts: Plymouth (FEMA Docket No.: B-2341). | Town of Marshfield (22-01-0998P). | The Honorable Stephen Darcy, Chair, Town of Marshfield Select Board, 870 Moraine Street, Marshfield, MA 02050. | Building Department, 870 Moraine Street, Marshfield, MA 02050. | Aug. 9, 2023 | 250273
New Mexico: Dona Ana (FEMA Docket No.: B-2341). | City of Las Cruces (22-06-0707P). | Ifo Pili, Manager, City of Las Cruces, 700 North Main Street, Suite 3600, Las Cruces, NM 88001. | City Hall, 700 North Main Street, Suite 1100, Las Cruces, NM 88001. | Aug. 14, 2023 | 355332
Pennsylvania:
Blair (FEMA Docket No.: B-2348). | Borough of Williamsburg (23-03-0119P). | The Honorable Theodore Hyle, Mayor, Borough of Williamsburg, 305 East 2nd Street, Williamsburg, PA 16693. | Borough Hall, 305 East 2nd Street, Williamsburg, PA 16693. | Aug. 8, 2023 | 420165
Blair (FEMA Docket No.: B-2348). | Township of Catharine (23-03-0119P). | The Honorable Heather Flaig, Supervisor, Township of Catharine, 229 Recreation Drive, Williamsburg, PA 16693. | Township Hall, 1229 Recreation Drive, Williamsburg, PA 16693. | Aug. 8, 2023 | 420962
Blair (FEMA Docket No.: B-2348). | Township of Woodbury (23-03-0119P). | The Honorable Joseph Lansberry, Chair, Township of Woodbury Board of Supervisors, 6385 Clover Creek Road, Williamsburg, PA 16693. | Township Hall, 6385 Clover Creek Road, Williamsburg, PA 16693. | Aug. 8, 2023 | 420963
Cumberland (FEMA Docket No.: B-2348). | Township of Upper Allen (22-03-0959P). | The Honorable Kenneth M. Martin, President, Township of Upper Allen Board of Commissioners, 100 Gettysburg Pike, Mechanicsburg, PA 17055. | Township Hall, 100 Gettysburg Pike, Mechanicsburg, PA 17055. | Aug. 18, 2023 | 420372
Delaware (FEMA Docket No.: B-2348). | Township of Darby (23-03-0224P). | The Honorable John Lacey, President, Township of Darby Board of Commissioners, 21 Bartram Avenue, Glenolden, PA 19036. | Township Hall, 21 Bartram Avenue, Glenolden, PA 19036. | Aug. 14, 2023 | 421603
Philadelphia (FEMA Docket No.: B-2348). | City of Philadelphia (23-03-0224P). | The Honorable James Kenney, Mayor, City of Philadelphia, 1 South Penn Square, Suite 215, Philadelphia, PA 19102. | Department of Licenses and Inspections, 1401 John F. Kennedy Boulevard, 11th Floor, Philadelphia, PA 19102. | Aug. 14, 2023 | 420757
Texas:
Bexar (FEMA Docket No.: B-2348). . | City of San Antonio (22-06-1878P). | The Honorable Ron Nirenberg, Mayor, City of San Antonio, P.O. Box 839966, San Antonio, TX 78283. | Transportation and Capital Improvements Department, Storm Water Division, 1901 South Alamo Street, 2nd Floor, San Antonio, TX 78204. | Aug. 14, 2023 | 480045
Collin (FEMA Docket No.: B-2341). | City of Josephine (23-06-0194P). | The Honorable Jason Turney, Mayor, City of Josephine, P.O. Box 99, Josephine, TX 75164. | City Hall, 201 South Main Street, Josephine, TX 75173. | Aug. 18, 2023 | 480756
Collin (FEMA Docket No.: B-2341). | Unincorporated areas of Collin County (23-06-0194P). | The Honorable Chris Hill, Collin County Judge, 2300 Bloomdale Road, Suite 4192, McKinney, TX 75071. | Collin County Engineering Department, 4690 Community Avenue, Suite 200, McKinney, TX 75071. | Aug. 18, 2023 | 480130
Dallas (FEMA Docket No.: B-2348). | City of Garland (22-06-2058P). | The Honorable Scott LeMay, Mayor, City of Garland, 200 North 5th Street, Garland, TX 75040. | City Hall, 200 North 5th Street, Garland, TX 75040. | Aug. 14, 2023 | 485471
Dallas (FEMA Docket No.: B-2348). | City of Sachse (22-06-2058P). | The Honorable Jeff Bickerstaff, Mayor, City of Sachse, 3815 Sachse Road, Sachse, TX 75048. | Engineering Department, 3815 Sachse Road, Sachse, TX 75048. | Aug. 14, 2023 | 480186
Denton (FEMA Docket No.: B-2348). | City of Fort Worth 22-06-2050P). | The Honorable Mattie Parker, Mayor, City of Fort Worth, 200 Texas Street, Fort Worth, TX 76102. | Transportation and Public Works Department, Engineering Vault, 200 Texas Street, Fort Worth, TX 76102. | Aug. 21, 2023 | 480596
Starr (FEMA Docket No.: B-2335). | City of Rio Grande City (22-06-2596P). | The Honorable Joel Villarreal, Mayor, City of Rio Grande City, 5332 East Highway 83, Rio Grande City, TX 78582. | City Hall, 101 South Washington Street, Rio Grande City, TX 78582. | Aug. 14, 2023 | 481678
Starr (FEMA Docket No.: B-2335). | Unincorporated areas of Starr County, (22-06-2596P). | The Honorable Eloy Vera, Starr County Judge, 100 North F.M. 3167, Rio Grande City, TX 78582. | Starr County Courthouse Annex, 100 North F.M. 3167, Rio Grande City, TX 78582. | Aug. 14, 2023 | 480575
Tarrant (FEMA Docket No.: B-2352). | City of Grand Prairie (22-06-2829P). | The Honorable Ron Jensen, Mayor, City of Grand Prairie, P.O. Box 534045, Grand Prairie, TX 75053. | City Hall, 300 West Main Street, Grand Prairie, TX 75050. | Aug. 10, 2023 | 485472
Taylor (FEMA Docket No.: B-2341). | City of Abilene, (22-06-3030P). | The Honorable Anthony Williams, Mayor, City of Abilene, P.O. Box 60, Abilene, TX 79604. | City Hall, 555 Walnut Street, Abilene, TX 79601. | Aug. 11, 2023 | 485450
Virginia:
Washington (FEMA Docket No.: B-2348). . | City of Bristol (22-03-1191P). | Randy Eads, City of Bristol Manager, 300 Lee Street, Bristol, VA 24201. | Community Development and Planning Department, 300 Lee Street, Bristol, VA 24201. | Aug. 10, 2023 | 510022
Washington (FEMA Docket No.: B-2348). . | Unincorporated areas of Washington County 22-03-1191P). | Saul A. Hernandez, Chair, Washington County Board of Supervisors, 5411 Dishner Valley Road, Bristol, VA 24202. | Washington County Department of Zoning Administration, 1 Government Center Place, Suite A, Abingdon, VA 24210. | Aug. 10, 2023 | 510168

[FR Doc. 2023-19892 Filed 9-13-23; 8:45 am]

BILLING CODE 9110-12-P